DEPARTMENT OF AGRICULTURE

National Agricultural Statistics Service

Notice of Intent To Request Revision and Extension of a Currently Approved Information Collection

AGENCY: National Agricultural Statistics Service, USDA.

ACTION: Notice and request for comments.

SUMMARY: In accordance with the Paperwork Reduction Act of 1995, this notice announces the intention of the National Agricultural Statistics Service (NASS) to request revision and extension of a currently approved information collection, the Agricultural Resources Management Survey (ARMS), Phases 1 and 2, as well as Chemical Use Surveys.

DATES: Comments on this notice must be received by February 10, 2026 to be assured of consideration.

ADDRESSES: You may submit comments, identified by docket number 0535-0218, by any of the following methods:

• Email: ombofficer@nass.usda.gov. Include docket number above in the subject line of the message.

• eFax: (855) 838-6382.

• Mail: Mail any paper, disk, or CD-ROM submissions to: NASS OMB Clearance Officer, U.S. Department of Agriculture, Room 5336 South Building, 1400 Independence Avenue SW, Washington, DC 20250-2024.

• Hand Delivery/Courier: Hand deliver to: NASS OMB Clearance Officer, U.S. Department of Agriculture, Room 5336 South Building, 1400 Independence Avenue SW, Washington, DC 20250-2024.

FOR FURTHER INFORMATION CONTACT: Jody R. McDaniel, Associate Administrator, National Agricultural Statistics Service, U.S. Department of Agriculture, (202) 720-2707. Copies of this information collection and related instructions can be obtained without charge from NASS OMB Clearance Officer, at (202) 720-2206 or at ombofficer@nass.usda.gov.

SUPPLEMENTARY INFORMATION:

Title: Agricultural Resources Management Survey and Chemical Use Surveys.

OMB Control Number: 0535-0218.

Expiration Date of Current Approval: July 31, 2027.

Type of Request: To revise and extend a currently approved information collection for a period of three years.

Abstract: The Agricultural Resource Management Surveys (ARMS) are the primary source of information for the U.S. Department of Agriculture on a broad range of issues related to production practices, costs and returns, pest management, chemical usage, and contractor expenses. Data are collected at both the whole-farm level and for selected commodities.

Historically, the ARMS docket included a screening phase, a chemical use phase, and an economic phase. This notice and information collection focus on ARMS Phases 1 and 2—screening, production practices, and chemical use surveys.

Cost of Production: Congress mandates the development of annual estimates for the cost of producing wheat, feed grains, cotton, and dairy commodities. USDA also collects cost of production data for soybeans, rice, peanuts, hogs, and beef cow-calf operations to support economic comparisons among major farm commodities competing for U.S. agricultural resources.

Chemical Use Surveys: Congress has directed NASS and ERS to build nationally coordinated databases on agricultural chemical use and related farm practices. These databases are essential for producing environmental and economic estimates and help producers and researchers address on-farm environmental concerns while maintaining productivity.

Authority: These data will be collected under the authority of 7 U.S.C. 2204(a). Individually identifiable data collected under this authority are governed by section 1770 of the Food Security Act of 1985, 7 U.S.C. 2276, which requires USDA to afford strict confidentiality to non-aggregated data provided by respondents. This Notice is submitted in accordance with the Paperwork Reduction Act of 1995 (at 44 U.S.C. 3501, et seq.) and Office of Management and Budget regulations at 5 CFR part 1320.

All NASS employees and NASS contractors must also fully comply with all provisions of the Confidential Information Protection and Statistical Efficiency Act (CIPSEA) of 2018, Title III of Public Law 115-435, codified in 44 U.S.C. Ch. 35. CIPSEA supports NASS's pledge of confidentiality to all respondents and facilitates the agency's efforts to reduce burden by supporting statistical activities of collaborative agencies through designation of NASS agents, subject to the limitations and penalties described in CIPSEA.

Estimate of Burden: The public reporting burden for this collection is estimated to average approximately 8 minutes per response.

Respondents: Farmers, ranchers, farm managers, farm contractors, and farm households.

Estimated Number of Respondents: Approximately 118,000 respondents will be sampled annually. Fewer than 20 percent will be contacted more than once per year.

Estimated Total Annual Burden on Respondents: Approximately 52,000 hours per year.

Comments: Comments are invited on: (a) whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, through the use of appropriate automated, electronic, mechanical, technological or other forms of information technology collection methods.

All responses to this notice will become a matter of public record and be summarized in the request for OMB approval.

Signed at Washington, DC, December 10, 2025.
Jody R. McDaniel,
Associate Administrator.

[FR Doc. 2025-22664 Filed 12-11-25; 8:45 am]

BILLING CODE 3410-20-P